DEPARTMENT OF ENERGY

Federal Energy Regulatory Commission

Notice of Revocation of Market-Based Rate Authority and Termination of Electric Market-Based Rate Tariff

| Docket Nos.
Electric Quarterly Reports | ER02-2001-020
AmericaWide Energy, LLC | ER11-4386-001
K&R Energy Partners LLC | ER17-2512-000
Bluesource Energy LLC | ER13-1120-001
Greenbelt Energy | ER11-3019-001
PJLB LLC | ER15-2466-000

On February 25, 2019, the Commission issued an order announcing its intent to revoke the market-based rate authority of several public utilities that had failed to file their required Electric Quarterly Reports.¹ The Commission directed those public utilities to file the required Electric Quarterly Reports within 15 days of the date of issuance of the order or face revocation of their authority to sell power at market-based rates and termination of their electric market-based rate tariffs.²

¹ Electric Quarterly Reports, 166 FERC 61,147 (2019) (February 25 Order).

² Id. at Ordering Paragraph A.

The time period for compliance with the February 25 Order has elapsed. The above-captioned companies failed to file their delinquent Electric Quarterly Reports. The Commission hereby revokes, effective as of the date of issuance of this notice, the market-based rate authority and terminates the electric market-based rate tariff of each of the companies who are named in the caption of this order.

Dated: April 5, 2019.
Kimberly D. Bose,
Secretary.

[FR Doc. 2019-07224 Filed 4-11-19; 8:45 am]

BILLING CODE 6717-01-P